DEPARTMENT OF TRANSPORTATION

Federal Railroad Administration

[Docket No. FRA-2022-0002-N-13]

Proposed Agency Information Collection Activities; Comment Request

AGENCY: Federal Railroad Administration (FRA), U.S. Department of Transportation (DOT).

ACTION: Notice of information collection; request for comment.

SUMMARY: Under the Paperwork Reduction Act of 1995 (PRA) and its implementing regulations, FRA seeks approval of the Information Collection Request (ICR) abstracted below. Before submitting this ICR to the Office of Management and Budget (OMB) for approval, FRA is soliciting public comment on specific aspects of the activities identified in the ICR.

DATES: Interested persons are invited to submit comments on or before September 6, 2022.

ADDRESSES: Written comments and recommendations for the proposed ICR should be submitted on regulations.gov to the docket, Docket No. FRA-2022-0002. All comments received will be posted without change to the docket, including any personal information provided. Please refer to the assigned OMB control number (2130-0017) in any correspondence submitted. FRA will summarize comments received in response to this notice in a subsequent notice and include them in its information collection submission to OMB for approval.

FOR FURTHER INFORMATION CONTACT: Mr. John Purnell, Information Collection Clearance Officer, at email: john.purnell@dot.gov or telephone: (202) 713-0246, or Ms. Hodan Wells, Information Collection Clearance Officer, at email: hodan.wells@dot.gov or telephone: (202) 868-9412.

SUPPLEMENTARY INFORMATION: The PRA, 44 U.S.C. 3501-3520, and its implementing regulations, 5 CFR part 1320, require Federal agencies to provide 60-days' notice to the public to allow comment on information collection activities before seeking OMB approval of the activities. See 44 U.S.C. 3506, 3507; 5 CFR 1320.8 through 1320.12. Specifically, FRA invites interested parties to comment on the following ICR regarding: (1) whether the information collection activities are necessary for FRA to properly execute its functions, including whether the activities will have practical utility; (2) the accuracy of FRA's estimates of the burden of the information collection activities, including the validity of the methodology and assumptions used to determine the estimates; (3) ways for FRA to enhance the quality, utility, and clarity of the information being collected; and (4) ways for FRA to minimize the burden of information collection activities on the public, including the use of automated collection techniques or other forms of information technology. See 44 U.S.C. 3506(c)(2)(A); 5 CFR 1320.8(d)(1).

FRA believes that soliciting public comment may reduce the administrative and paperwork burdens associated with the collection of information that Federal regulations mandate. In summary, FRA reasons that comments received will advance three objectives: (1) reduce reporting burdens; (2) organize information collection requirements in a “user-friendly” format to improve the use of such information; and (3) accurately assess the resources expended to retrieve and produce information requested. See 44 U.S.C. 3501.

The summary below describes the ICR that FRA will submit for OMB clearance as the PRA requires:

Title: U.S. DOT Crossing Inventory.

OMB Control Number: 2130-0017.

Abstract: On January 6, 2015, FRA published in the Federal Register a final rule that requires railroads that operate one or more trains through highway-rail or pathway crossings to submit information to the U.S. DOT National Highway-Rail Crossing Inventory about the crossings through which they operate.¹ These amendments, mandated by section 204 of the Rail Safety Improvement Act of 2008, require railroads to submit information about previously unreported and new highway-rail and pathway crossings to the U.S. DOT National Highway-Rail Crossing Inventory, and to periodically update existing crossing data.

¹ This final rule was subsequently amended on June 10, 2016, in response to a petition for reconsideration submitted by the Association of American Railroads. See 81 FR 37521.

In this 60-day notice, FRA made multiple adjustments which increased the previously approved burden hours from 8,293 hours to 8,663 hours. For instance:

• Under § 234.403(a-c), the burden increased from 34 hours to 1,509 hours due to changes in the number of responses—from 1,081 updated records to 30,018 updated records per year. FRA's estimate is based on how frequently these updates have been submitted to date.

• Under § 234.405(b), the burden decreased from 883 hours to 17 hours annually due to changes in the number of responses—from 10,600 responses to 200 responses. FRA's estimate is based on how frequently these updates have been submitted to date.

Type of Request: Extension without change (with changes in estimates) of a currently approved collection.

Affected Public: Businesses, States, and the District of Columbia (DC).

Form(s): FRA F 6180.71.

Respondent Universe: 50 States, DC, and 667 railroads.

Frequency of Submission: On occasion.

Reporting Burden
CFR section ² | Respondent universe | Total annual responses | Average time per response | Total annual burden hours | Total cost equivalent
|  | (A) | (B) | (C) = A * B | (D) = C * wage ³
234.403(a-c)—Submission of data to the U.S. DOT Highway-Rail Crossing Inventory: Completion of inventory form | 50 States/DC & 667 railroads | 338 forms | 30 minutes | 169 | $13,013
—GCIS update of designated data submitted by railroads & states/DC | 50 States/DC & 667 railroads | 30,018 updates | 3 minutes | 1,509 | 115,577
—Excel lists of submitted data | 50 States/DC & 667 railroads | 836 lists | 15 minutes | 209 | 16,093
—Changes/corrections to Crossing Inventory data submitted via API computer program | 50 States/DC & 667 railroads | 122,520 records | 3 minutes | 6,126 | 471,702
—Written requests by states/DC & railroads for FRA Crossing Inventory Guide | 50 States/DC & 667 railroads | 5 requests | 15 minutes | 1.25 | 77
(d)—Reporting Crossing Inventory data by state agencies/DC on behalf of railroads: Written notices to FRA | 50 States/DC & 667 railroads | 1 notice | 60 minutes | 1 | 77
(e)(1)—Consolidated reporting by parent corporation on behalf of its subsidiary railroads: Written notice to FRA | 667 railroads | 15 notices | 60 minutes | 15 | 1,155
(e)(2)—Immediate notification to FRA by parent corporation of any changes in the list of subsidiary railroads for which it reports | 667 railroads | 5 notices | 60 minutes | 5 | 385
234.405(a)(1)—Initial submission of previously unreported highway-rail and pathway crossings through which they operate by primary operating railroads: Providing assigned crossing inventory number to each railroad that operates one or more trains through crossing | 667 railroads | 300 assigned inventory members | 5 minutes | 25 | 1,925
—Primary operating railroad providing assigned inventory number to other (2) railroads operating through crossing | 667 railroads | 200 provided assigned inventory numbers | 5 minutes | 16.6 | 1,309
234.405(b)—Submission of crossing data specified in the Inventory Guide to the Crossing Inventory | Duplicate estimate removed. The estimated paperwork burden for this requirement is included under § 234.403(a-c). Consequently, there is no additional burden associated with this requirement.
(c)—Duty of all operating railroads: Notification to FRA of previously unreported crossing through which it operates | 667 railroads | 10 notices/ notifications | 60 minutes | 10 | 770
(d)—Incomplete submission by state agency/DC: Written certification by primary operating railroad that state/DC has not provided requested crossing information | 667 railroads | 70 certification statements | 2 minutes | 2.3 | 154
—Copies of written certification statements to other operating railroads and responsible state agency/DC | 667 railroads | 75 certification copies | 2 minutes | 2.5 | 231
234.407(a)—Submission of initial data to the Crossing Inventory for new Crossings: Providing assigned inventory numbers for new highway-rail and pathway crossings through which they operate by primary operating railroads to each railroad that operates one or more trains through the crossing | 667 railroads | 50 assigned inventory numbers | 5 minutes | 4.2 | 308
(b) Each operating railroad must submit accurate inventory forms or electronic equivalent to the FRA crossing inventory for new highway-rail & pathway crossings operating on separate tracks | Duplicate estimate removed. The estimated paperwork burden for this requirement is included under § 234.407(a). Consequently, there is no additional burden associated with this requirement.
234.409(a)—Submission of periodic updates to the Crossing Inventory by primary operating railroad | Duplicate estimate removed. The estimated paperwork burden for this requirement is included under § 234.403. Consequently, there is no additional burden associated with this requirement.
234.411(a)—Notification/report by railroad to primary operating railroad of sale of all or part of a highway-rail or pathway on or after June 10, 2016 | 667 railroads | 400 notices/reports | 15 minutes | 100 | 7,700
(b)—Crossing closure: Submission of Crossing Inventory form by primary operating railroad that closes highway-rail and pathway crossing | Duplicate estimate removed. The estimated paperwork burden for this requirement is included under § 234.403. Consequently, there is no additional burden associated with this requirement.
(c)—Primary operating RR submission of inventory form for change in crossing characteristics | 667 railroads | 1,200 forms | 5 minutes | 100 | 7,700
234.413(a & b)—Recordkeeping—RR Duplicate copy of each inventory form submitted in hard copy to the Crossing Inventory | 667 railroads | 350 duplicate copies | 1 minute | 5.8 | 462
—Copy of electronic confirmation received from FRA after electronic submission of crossing data to Crossing Inventory | 667 railroads | 265,365 copies | 5 seconds | 368.6 | 28,413
—List of locations where a copy of any record required by this Subpart may be accessed and copied | Duplicate estimate removed. The estimated paperwork burden for these requirements is included under § 234.413(a) and § 234.413(b). Consequently, there is no additional burden associated with these requirements.
Total | 50 States/DC & 667 railroads | 421,758 responses | N/A | 8,663 | 667,051
² The current inventory exhibits a total burden of 8,293 hours while the total burden of this notice is 8,663 hours.
³ FRA uses the STB's 2020 Full Year Wage A&B Group No. 200, Professional and Administrative, to represent the wage rate for the respondent universe. The average hourly wage rate is $44.25. FRA adds an overhead of 75 percent to the hourly wage for a fully loaded hourly wage of $77.44 ($44.25 * 1.75). FRA rounds the fully loaded hourly wage rate to $74 for purposes of this ICR.

Total Estimated Annual Responses: 421,758.

Total Estimated Annual Burden: 8,663 hours.

Total Estimated Annual Burden Hour Dollar Cost Equivalent: $667,051.

FRA informs all interested parties that it may not conduct or sponsor, and a respondent is not required to respond to, a collection of information that does not display a currently valid OMB control number.

(Authority: 44 U.S.C. 3501-3520)

Brett A. Jortland,
Deputy Chief Counsel.

[FR Doc. 2022-14188 Filed 7-1-22; 8:45 am]

BILLING CODE 4910-06-P